ENVIRONMENTAL PROTECTION AGENCY

40 CFR Part 52

[EPA-R01-OAR-2019-0179; FRL-9996-36-Region 1]

Air Plan Approval; New Hampshire; Reasonably Available Control Technology Orders

AGENCY: Environmental Protection Agency (EPA).

ACTION: Proposed rule.

SUMMARY: The Environmental Protection Agency (EPA) is proposing to approve State Implementation Plan (SIP) revisions submitted by the State of New Hampshire. These revisions consist of single-source Orders that New Hampshire adopted to meet reasonably available control technology requirements (RACT), and of requests made by New Hampshire to withdraw from its SIP a number of previously issued RACT Orders. This action is being taken under the Clean Air Act.

DATES: Written comments must be received on or before August 12, 2019.

ADDRESSES: Submit your comments, identified by Docket ID No. EPA-R01-OAR-2019-0179 at https://www.regulations.gov, or via email to mcconnell.robert@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www.epa.gov/dockets/commenting-epa-dockets. Publicly available docket materials are available at https://www.regulations.gov or at the U.S. Environmental Protection Agency, EPA Region 1 Regional Office, Air and Radiation Division, Air Quality Branch, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

FOR FURTHER INFORMATION CONTACT: Bob McConnell, Environmental Engineer, Air and Radiation Division (Mail Code 05-2), U.S. Environmental Protection Agency, Region 1, 5 Post Office Square, Suite 100, Boston, Massachusetts, 02109-3912; (617) 918-1046. mcconnell.robert@epa.gov.

SUPPLEMENTARY INFORMATION: Throughout this document whenever “we,” “us,” or “our” is used, we mean EPA.

Table of Contents

I. Background and Purpose

II. Description and Evaluation of New Hampshire's SIP Submittal

1. Revised Single Source Order for Schiller Station

2. Revised Single Source Order for Anheuser Busch

3. Revised Single Source Order for Metal Works, Inc.

4. Revised Single Source Order for Polyonics, Inc.

5. Single Source Order for Complete Coverage Woodpriming, LLC

6. Single Source RACT Order Withdrawals

III. Proposed Action

IV. Incorporation by Reference

V. Statutory and Executive Order Reviews

I. Background and Purpose

Sections 172(c)(1) and 182(b)(2) of the Clean Air Act (CAA) require states to implement RACT in areas classified as moderate (and higher) non-attainment for ozone, while section 184(b)(1)(B) of the Act requires VOC RACT in states located in the Ozone Transport Region (OTR), and section 182(f) requires NOX RACT be adopted in the OTR. Per section 184(a) of the CAA, New Hampshire is a member state of the OTR. Areas subject to the RACT requirements of the CAA are required to implement RACT for all major emission sources of volatile organic compounds (VOCs) and nitrogen oxides (NOX) and for all sources covered by a Control Techniques Guideline (CTG). A CTG is a document issued by EPA which establishes a “presumptive norm” for RACT for a specific VOC source category. A related set of documents, Alternative Control Techniques (ACT) documents, exists primarily for NOX control requirements. States must submit rules, or negative declarations when no such sources exist for CTG source categories, but not for sources in ACT categories. However, RACT must be imposed on major sources of NOX, and some of those major sources may be within a sector covered by an ACT document.

As part of its ongoing obligation to ensure that RACT requirements are in place for major sources in the State, New Hampshire submitted the following revisions to its SIP over the past year: A single-source Order containing NOX RACT requirements for the Anheuser Busch Company, submitted on April 27, 2018; a request to withdraw from the SIP previously issued Orders for the Waterville Valley Ski Resort and for the Public Service Company of New Hampshire, submitted on September 5, 2018; a single-source Order containing VOC RACT requirements for Metal Works Inc., submitted on September 6, 2018; a single-source Order containing NOX RACT requirements for the Schiller Station power plant, submitted on September 6, 2018; a single-source Order containing VOC RACT requirements for Polyonics Inc., submitted on October 10, 2018; a request to withdraw from the SIP previously approved single-source Orders for the LW Packard Company, the Groveton Paperboard Company, and the Hampshire Chemical Company, submitted on January 8, 2019; and a single-source Order containing VOC RACT requirements for Complete Coverage Woodpriming, LLC, submitted on April 25, 2019.

II. Description and Evaluation of New Hampshire's SIP Revisions

1. Revised Single Source Order for Schiller Station

On September 6, 2018, New Hampshire submitted NOX RACT Order RO-003 to establish NOX RACT requirements for the Schiller Station electric-power plant in Portsmouth, NH, as a SIP revision request. Order RO-003 contains NOX emission limits for two EGUs, referred to as SR4 and SR6 in the Order, which are EGUs that can be fueled by coal or oil. New Hampshire issued the Order to the facilities owner, Granite Shore Power, LLC, on September 6, 2018. Both EGUs are equipped with NOX emission-reduction controls consisting of low NOX burners, overfire air systems, and selective non-catalytic reduction (SNCR) systems. Prior to issuance of Order RO-003, these EGUs were subject to a NOX emission limit of 0.50 lbs per mmBTU based on a 24-hour calendar day average. Order RO-003 lowers that limit to 0.25 lbs per mmBTU based on a 24-hour calendar day average. New Hampshire set this emission rate to correspond with low emission rates that were historically achieved on days when the units operated for at least 18 hours. We are proposing approval of New Hampshire's revised NOX emission limits for units SR4 and SR6 as representing RACT for these EGUs.

2. Revised Single Source Order for Anheuser Busch

On April 26, 2018, New Hampshire submitted a revision to a previously approved NOX RACT Order for Anheuser-Busch, LLC, in Merrimack, NH, as a SIP revision request. The revised Order, referred to as NOX RACT Order ARD-05-001, was last approved into the New Hampshire SIP on November 5, 2012 (77 FR 66388), and was re-issued with updates on January 17, 2018. The update consists of a revision to the testing requirements for two boilers at the facility such that future testing will be based on the fuel type that provided most of the heat input to each boiler over the previous 12 months. This is consistent with testing requirements that boilers are subject to pursuant to federal maximum achievable control technology (MACT) regulations. Additionally, this change will relieve the facility of testing requirements when burning fuels that are seldom used. For example, in some previous years, the boilers only burned oil during annual performance testing for that fuel. We have reviewed New Hampshire's changes to NOX RACT Order ARD-05-001 and agree that they are appropriate for this facility and are, therefore, proposing to approve the revised Order into the New Hampshire SIP.

3. Revised Single Source Order for Metal Works, Inc.

On September 4, 2018, New Hampshire submitted a revision to a previously approved VOC RACT Order for Metal Works, Inc., in Londonderry, NH, as a SIP revision request. The revised Order, referred to as VOC RACT Order ARD-05-001, was last approved into the New Hampshire SIP on November 5, 2012 (77 FR 66388), and was re-issued with updates on August 16, 2018. Metal Works Inc. is a very small VOC source with emissions just above the three ton per year threshold. The revision made to its VOC RACT Order allows it to meet its RACT obligation via the purchase of emission reduction credits generated by other sources. New Hampshire estimates the source will need to make minimal credit purchases each year of approximately 0.5 to 1.0 tons. We have reviewed New Hampshire's revised VOC RACT Order for Metal Works Inc. and agree that it represents RACT for the facility. Therefore, we are proposing to approve it as a revision to the New Hampshire SIP.

4. Single Source Order for Polyonics, LLC

On October 10, 2018, New Hampshire submitted RACT Order ARD07-004 issued to Polyonics, Inc., located in Westmoreland, NH, as a SIP revision request. Three coating lines are used at the facility in the manufacture of pressure sensitive labeling materials, and VOC emissions from the lines are controlled by catalytic oxidizers. New Hampshire amended a previously issued RACT Order for the facility, which EPA approved into the NH SIP on November 5, 2012 (77 FR 66388), to allow the facility to generate and sell discrete emission reduction credits to other facilities in the State. We have reviewed New Hampshire's revised VOC RACT Order for Polyonics, Inc., and agree that it represents RACT for the facility. Therefore, we are proposing to approve it as a revision to the New Hampshire SIP.

5. Single Source Order for Complete Coverage Woodpriming, LLC

On April 25, 2019, New Hampshire submitted RACT Order RO-0004 issued to Complete Coverage Woodpriming, LLC, in Allenstown, NH, as a SIP revision request. The facility applies primer and coatings to trim boards, clapboards, and other products in compliance with New Hampshire's regulation Env-A 1214, Flat Wood Paneling Coatings, except for one coating used as a stain blocker to prevent the tannic acid within knots from bleeding through and discoloring the finished product. The facility investigated use of a number of potential stain blockers to meet its needs and to comply with Env-A 1214 but could not find a satisfactory product. Considering this, New Hampshire issued RACT Order RO-0004, which specified a maximum emission limit of 2.96 lbs VOC per gallon for stain block products. This will enable the facility to continue using the stain block that meets its performance specification needs. The facility is required to provide an annual report to New Hampshire describing its efforts to find a lower emitting stain block product.

6. Single Source RACT Order Withdrawals

On August 16, 2018, New Hampshire submitted a request that a previously approved single-source RACT Order, Order ARD-95-003 issued to the Waterville Valley Ski Resort, be withdrawn from the SIP. EPA approved the RACT Order for the Waterville Valley Ski Resort on April 9, 1997 (62 FR 17087) into the New Hampshire SIP. The Order contains NOX RACT requirements for internal combustion engines and residential boilers used at the time by the facility. After New Hampshire issued RACT Order ARD-95-003, the State issued a permit pursuant to Env-A 610, General State Permits and General Permits Under Title V, which contained requirements covering the internal combustion engines at the facility. The permit capped NOX emissions at less than 50 tons per year; the most recent NOX emissions data available from the facility indicated only 2.2 tons of NOX were emitted. Additionally, some of the equipment initially subject to the NOX RACT Order have been recategorized as emergency engines. New Hampshire reviewed the current equipment and permits issued to the facility and determined that the basis and conditions for the NOX RACT Order no longer exist, and, therefore, requested that the Order be withdrawn from the New Hampshire SIP.

On January 8, 2019, New Hampshire submitted a request that three previously approved single-source RACT Orders be withdrawn from its SIP. These include: Order ARD-94-001, issued to the L.W. Packard Company; Order ARD-95-001, issued to Groveton Paperboard, Inc.; and Order ARD-95-011, issued to the Hampshire Chemical Corporation. EPA approved the RACT Order for L.W. Packard Company into the New Hampshire SIP on March 10, 1998 (63 FR 11600). The facility ceased operation in 2008, and, therefore, New Hampshire requested the Order be withdrawn from its SIP. EPA approved the RACT Order for Groveton Paperboard, Inc., on April 9, 1997 (62 FR 17087), which also ceased operation in 2008, and, therefore, New Hampshire requested the Order be withdrawn from its SIP. EPA approved the RACT Order for Hampshire Chemical Corporation on May 13, 1998 (63 FR 26455). The facility ceased operation in 2004, and, therefore, New Hampshire requested the Order be withdrawn from its SIP.

On April 30, 2019, New Hampshire submitted a request that a previously approved single-source RACT Order for the Concord Litho Group be withdrawn from the SIP. EPA approved the Order, identified as Order ARD-07-003, into the New Hampshire SIP on August 21, 2014 (79 FR 49462). The facility ceased operation in 2018, and, therefore, New Hampshire requested the Order be withdrawn from its SIP.

III. Proposed Action

EPA is proposing to approve the following items into the New Hampshire SIP: A single-source NOX RACT Order for Schiller Station; a revised single-source NOX RACT Order for Anheuser Busch; a revised single-source VOC RACT Order for Metal Works, Inc.; a revised single-source VOC RACT Order for Polyonics, Inc.; and a single-source VOC RACT Order for Complete Coverage Woodpriming, LLC. EPA also is proposing to withdraw from the New Hampshire SIP previously approved RACT Orders for the L.W. Packard Company; the Groveton Paperboard Company; the Hampshire Chemical Company; the Waterville Valley Ski Resort; and the Concord Litho Group, Inc. EPA is soliciting public comments on the issues discussed in this notice or on other relevant matters. These comments will be considered before taking final action. Interested parties may participate in the Federal rulemaking procedure by submitting written comments to this proposed rule by following the instructions listed in the ADDRESSES section of this Federal Register.

IV. Incorporation by Reference

In this rule, the EPA is proposing to include in a final EPA rule regulatory text that includes incorporation by reference. In accordance with requirements of 1 CFR 51.5, the EPA is proposing to incorporate by reference the following items: A single-source NOX RACT order for Schiller Station; a single-source NOX RACT Order for Anheuser Busch; a single-source VOC RACT Order for Metal Works Inc.; a single-source VOC RACT Order for Polyonics, Inc.; and a single-source VOC RACT Order for Complete Coverage Wood Priming, LLC. The EPA has made, and will continue to make, these documents generally available through https://www.regulations.gov and at the EPA Region 1 Office (please contact the person identified in the FOR FURTHER INFORMATION CONTACT section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• This action is not expected to be an Executive Order 13771 regulatory action because this action is not significant under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Nitrogen dioxide, Ozone, Reporting and recordkeeping requirements, Volatile organic compounds.

Dated: July 3, 2019.
Deborah Szaro,
Acting Regional Administrator, EPA Region 1.

[FR Doc. 2019-14838 Filed 7-11-19; 8:45 am]

BILLING CODE 6560-50-P